NATIONAL SCIENCE FOUNDATION

Special Emphasis Panel in Undergraduate Education; Notice of Meeting

In accordance with the Federal Advisory Committee Act (Pub. L. 92-463, as amended), the National Science Foundation announces the following meeting:

Name: Special Emphasis Panel in Undergraduate Education (1214).

Date/Time: Thursday, February 17, 2000; 8:00 am-6 pm, Rooms 830 and 880 [Closed]. Friday, February 18, 2000; 8:00 am-2:00 pm, Room 830 and 880 [Closed]. Friday, February 18, 2000; 2:00-3:30 pm, room 830 [Open].

Place: National Science Foundation, 4201 Wilson Blvd, Arlington, VA 22230.

Type of Meeting: Part Open (see Agenda, below).

Contact Person: Dr. Herbert Levitan, National Science Foundation, 4201 Wilson Blvd, Arlington, VA 22230. Telephone: (703) 306-1681.

Purpose of Meeting: To carry out a Committee of Visitors (COV) review of the CCLI and ATE programs over the past three fiscal years, including program evaluation, examination of decisions on proposals, reviewer comments, and to access other privileged information.

Agenda: February 17, 2000, 8:00 am-6:00 pm, Closed review of privileged documents. February 18, 2000, 8:00 am-2 pm. Closed review of privileged documents. February 18, 2:00 pm-3:30 pm, Open discussion on the impact of the projects funded and an evaluation of the programs. Session is open to meet requirements of Government Performance and Results Act (GPRA).

Reason for Closing: During the closed session, the COV will be reviewing proposals which include information of a proprietary or confidential nature, including technical information; financial data such as salaries, and personal information concerning individuals associated with the proposals. These matters are exempt under 5 U.S.C. 552b(c), (4) and (6) of the Government in the Sunshine Act.

Dated: February 1, 2000.
Karen J. York,
Committee Management Officer.

[FR Doc. 00-2741 Filed 2-7-00; 8:45 am]

BILLING CODE 7555-01-M